NUCLEAR REGULATORY COMMISSION

[Docket Nos. 50-313, 50-368, 50-483, 50-317, 50-318, 50-315, 50-316, 50-416, 50-266, 50-301, 50-498, 50-499, NRC-2020-0110]

Issuance of Multiple Exemptions in Response to COVID-19 Public Health Emergency

AGENCY: Nuclear Regulatory Commission.

ACTION: Exemptions; issuance.

SUMMARY: The U.S. Nuclear Regulatory Commission (NRC) issued seven exemptions in response to requests from six licensees. The exemptions afford these licensees temporary relief from certain requirements under NRC regulations. The exemptions are in response to the licensees' requests for relief due to the coronavirus disease 2019 (COVID-19) public health emergency (PHE). The NRC is issuing a single notice to announce the issuance of the exemptions.

DATES: During the period from October 6, 2020, to October 26, 2020, the NRC granted seven exemptions in response to requests submitted by licensees from July 13, 2020, to October 8, 2020.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at PDR.Resource@nrc.gov or call 1-800-397-4209 between 8:00 a.m. and 4:00 p.m. (EST), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington DC 20555-0001; telephone: 301-415-7422, email: James.Danna@nrc.gov.

SUPPLEMENTARY INFORMATION:

I. Introduction

During the period from October 6, 2020, to October 26, 2020, the NRC granted seven exemptions in response to requests submitted by licensees from July 13, 2020, to October 8, 2020. These exemptions temporarily allow the licensees to deviate from certain requirements (as cited below) of various parts of chapter I of title 10 of the Code of Federal Regulations (10 CFR).

The exemptions from certain requirements of 10 CFR part 26, “Fitness for Duty Programs,” for Indiana Michigan Power Company (for Donald C. Cook Nuclear Plant, Unit Nos. 1 and 2), and NextEra Energy Point Beach, LLC (for Point Beach Nuclear Plant, Units 1 and 2), afford these licensees temporary relief from the work-hour controls under 10 CFR 26.205(d)(1) through (d)(7). The exemptions from 10 CFR 26.205(d)(1) through (d)(7) ensure that the control of work hours and management of worker fatigue do not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific administrative controls for COVID-19 PHE fatigue-management for personnel specified in 10 CFR 26.4(a).

The exemptions from certain requirements of 10 CFR part 50, appendix E, “Emergency Planning and Preparedness for Production and Utilization Facilities,” section IV.F., “Training,” for Entergy Operations, Inc. (for Arkansas Nuclear One, Units 1 and 2), and STP Nuclear Operating Company (for South Texas Project, Units 1 and 2), grant temporary exemptions from the biennial emergency preparedness exercise requirement. The exemptions allow a temporary exemption from the requirements of 10 CFR part 50, appendix E, regarding the conduct of the biennial emergency preparedness exercise. These exemptions will not adversely affect the emergency response capability of the facilities because affected licensee personnel are currently qualified, and the licensees' proposed compensatory measures will enable their staff to maintain their knowledge, skills, and abilities without the conduct of the biennial emergency preparedness exercise during the exemption term.

The exemptions from certain requirements of 10 CFR part 73, appendix B, “General Criteria for Security Personnel,” section VI., “Nuclear Power Reactor Training and Qualification Plan for Personnel Performing Security Program Duties,” for Union Electric Company (for Callaway Plant, Unit No. 1); for Exelon Generation Company, LLC (for Calvert Cliffs Nuclear Power Plant, Units 1 and 2); and Entergy Operations, Inc. (for Grand Gulf Nuclear Station, Unit 1), afford these licensees temporary exemptions from certain requirements. The exemptions will help to ensure that these regulatory requirements do not unduly limit licensee flexibility in using personnel resources in a manner that most effectively manages the impacts of the COVID-19 PHE on maintaining the safe and secure operation of these facilities and the implementation of the licensees' NRC-approved security plans, protective strategy, and implementing procedures. These licensees have committed to certain security measures to ensure response readiness and for their security personnel to maintain performance capability.

The NRC is providing compiled tables of exemptions using a single Federal Register notice for COVID-19-related exemptions instead of issuing individual Federal Register notices for each exemption. The compiled tables below provide transparency regarding the number and type of exemptions the NRC has issued. Additionally, the NRC publishes tables of approved regulatory actions related to the COVID-19 PHE on its public website at https://www.nrc.gov/about-nrc/covid-19/reactors/licensing-actions.html.

II. Availability of Documents

The tables below provide the facility name, docket number, document description, and ADAMS accession number for each exemption issued. Additional details on each exemption issued, including the exemption request submitted by the respective licensee and the NRC's decision, are provided in each exemption approval listed in the tables below. For additional directions on accessing information in ADAMS, see the ADDRESSES section of this document.

Document description | ADAMS Accession No.
Arkansas Nuclear One, Units 1 and 2
Docket Nos. 50-313 and 50-368
Arkansas Nuclear One, Units 1 and 2—Request for One-Time Exemption from 10 CFR part 50, appendix E, Biennial Emergency Preparedness Evaluated Exercise Requirements due to COVID-19 Pandemic, dated July 13, 2020 | ML20195A397.
Arkansas Nuclear One, Units 1 and 2—Response to Request for Additional Information Related to Request from Certain Emergency Preparedness and Planning Requirements of 10 CFR part 50, appendix E, dated September 1, 2020 | ML20255A117.
Arkansas Nuclear One, Units 1 and 2—Enclosure: Response to Request for Additional Information related to Exemption Request from certain Emergency Preparedness Requirements of 10 CFR part 50, appendix E, dated September 1, 2020 | ML20255A118.
Arkansas Nuclear One, Units 1 and 2—Temporary Exemption from Biennial Emergency Preparedness Exercise Frequency Requirements of 10 CFR part 50, appendix E, sections IV.F.2.b and IV.F.2.c (EPID L-2020-LLE-0113 [COVID-19]), dated October 6, 2020 | ML20265A057.
Callaway Plant, Unit No. 1
Docket No. 50-483
Callaway Plant Unit 1—Security Training Exemption Request due to COVID-19, dated September 3, 2020 | ML20247J644.
Callaway Plant, Unit No. 1—Additional Information Regarding Security Training Exemption Request due to COVID-19, dated September 18, 2020 | non-public, withheld pursuant to 10 CFR 2.390.
Callaway Plant, Unit No. 1—Exemption from Certain Requirements of 10 CFR part 73, appendix B, “General Criteria for Security Personnel,” section VI (EPID L 2020 LLE 0140 [COVID-19]), dated October 20, 2020 | ML20268A189.
Calvert Cliffs Nuclear Power Plant, Units 1 and 2
Docket Nos. 50-317 and 50-318
Calvert Cliffs Nuclear Power Plant, Units 1 and 2—Request for Exemption from Certain 10 CFR part 73 Training Requirements due to COVID-19 PHE, dated September 8, 2020 | non-public, withheld pursuant to 10 CFR 2.390.
Calvert Cliffs Nuclear Power Plant, Units 1 and 2—Exemption from Certain Requirements of 10 CFR part 73, appendix B, “General Criteria for Security Personnel,” section VI (EPID L-2020-LLE-0141 [COVID-19]), dated October 9, 2020 | ML20264E689.
Donald C. Cook Nuclear Plant, Unit Nos. 1 and 2
Docket Nos. 50-315 and 50-316
Donald C. Cook Nuclear Plant, Units Nos. 1 and 2—Request for a One-Time Exemption from 10 CFR 26.205(d) due to COVID-19 Pandemic, dated October 8, 2020 | ML20283A381.
Donald C. Cook Nuclear Plant, Units 1 and 2—Exemption from Select Requirements of 10 CFR part 26 (EPID L-2020-LLE-0161) [COVID-19]), dated October 9, 2020 | ML20283A263.
Grand Gulf Nuclear Station, Unit 1
Docket No. 50-416
Grand Gulf Nuclear Station, Unit 1—Temporary Exemption Request from 10 CFR part 73, appendix B, section VI, Requirements for Force-on-Force Exercises due to COVID-19 Pandemic, dated September 17, 2020 | non-public, withheld pursuant to 10 CFR 2.390.
Grand Gulf Nuclear Station, Unit 1—Exemption From Certain Requirements of 10 CFR part 73, appendix B, “General Criteria for Security Personnel,” section VI (EPID L-2020-LLE-0147 [COVID-19]), dated October 19, 2020 | ML20266G289.
Point Beach Nuclear Plant, Units 1 and 2
Docket Nos. 50-266 and 50-301
Point Beach Nuclear Plant, Units 1 and 2—Exemption to 10 CFR part 26, Work Hour Controls, dated October 6, 2020 | ML20280A621.
Point Beach Nuclear Plant, Units 1 and 2—Response to Request for Additional Information Extension of Exemption from Certain 10 CFR part 26 Requirements, dated October 8, 2020 | ML20282A706.
Point Beach Nuclear Plant, Units 1 and 2—Extension of Exemption from Specific Requirements of 10 CFR part 26 (EPID L-2020-LLE-0159 [COVID-19]), dated October 15, 2020 | ML20282A332.
South Texas Project, Units 1 and 2
Docket Nos. 50-498 and 50-499
South Texas Project, Units 1 and 2—Exemption Request from 10 CFR part 50 appendix E, due to COVID-19 Pandemic, dated August 11, 2020 | ML20224A211.
South Texas Project, Units 1 and 2—Supplement to Exemption Request from 10 CFR part 50, appendix E, due to COVID-19 Pandemic, dated September 10, 2020 | ML20254A217.
South Texas Project, Units 1 and 2—Temporary Exemption from Certain Requirements of 10 CFR part 50, appendix E, Emergency Planning And Preparedness For Production and Utilization Facilities, Sections IV.F.2.b AND IV.F.2.c (EPID L-2020-LLE-0133), dated October 26, 2020 | ML20279A531.

Dated: November 20, 2020.
For the Nuclear Regulatory Commission.
James G. Danna,
Chief, Plant Licensing Branch I, Division of Operating Reactor Licensing, Office of Nuclear Reactor Regulation.

[FR Doc. 2020-26123 Filed 11-24-20; 8:45 am]

BILLING CODE 7590-01-P